DEPARTMENT OF HEALTH AND HUMAN SERVICES

National Institutes of Health

National Heart, Lung, and Blood Institute; Amended Notice of Meeting

Notice is hereby given of a change in the meeting of the National Heart, Lung, and Blood Advisory Council, June 6, 2023, 9:00 a.m. to June 6, 2023, 5:00 p.m., National Institutes of Health, Rockledge I, 6705 Rockledge Drive, Bethesda, MD 20892 which was published in the Federal Register on May 09, 2023, FR Document No. 2023-09862, 88 FRN 29914.

This notice is being amended to correct the time for the National Heart, Lung, and Blood Advisory Council closed session on June 6, 2023, that was previously published as 9:00 a.m. to 10:00 p.m. The correct time is from 9:00 a.m. to 10:00 a.m. The meeting is partially closed to the public.

Dated: May 15, 2023.
Melanie J. Pantoja,
Program Analyst, Office of Federal Advisory Committee Policy.

[FR Doc. 2023-10649 Filed 5-17-23; 8:45 am]

BILLING CODE 4140-01-P